ENVIRONMENTAL PROTECTION AGENCY

[OPPT-2003-0004; FRL-8107-6]

Access to Confidential Business Information by Computer Sciences Corporation's Identified Subcontractors; Correction

AGENCY: Environmental Protection Agency (EPA).

ACTION: Notice.

SUMMARY: EPA issued a notice in the Federal Register of August 15, 2006, concerning the authorization of EPA's contractor Computer Sciences Corporation of Chantilly, VA and its subcontractors, Digital Intelligence Systems Corporation of Chantilly, VA, Tek Systems of Hanover, MD, and Yoh I.T. of Philadelphia, PA, to access information which has been submitted to EPA under all sections of the Toxic Substances Control Act (TSCA). This document is being issued to correct errors in that notice.

FOR FURTHER INFORMATION CONTACT: For general information contact: Colby Lintner, Regulatory Coordinator, Environmental Assistance Division (7408M), Office of Pollution Prevention and Toxics, Environmental Protection Agency, 1200 Pennsylvania Ave., NW., Washington, DC 20460; telephone number: (202) 554-1404; e-mail address: TSCA-Hotline@epa.gov.

For specific information contact: Scott M. Sherlock, TSCA Security Staff, Environmental Assistance Division (7408M), Office of Pollution Prevention and Toxics, Environmental Protection Agency, 1200 Pennsylvania Ave., NW., Washington, DC 20460; telephone number: (202) 564-8257; e-mail address: sherlock.scott@epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the person listed under FOR FURTHER INFORMATION CONTACT.

B. How Can I Get Copies of this Document and Other Related Documents?

1. Docket. EPA has established an official public docket for this action under docket identification (ID) number OPPT-2003-0004. The official public docket consists of the documents specifically referenced in this action, any public comments received, and other information related to this action. Although a part of the official docket, the public docket does not include CBI or other information whose disclosure is restricted by statute. The official public docket is the collection of materials that is available for public viewing at the EPA Docket Center, Rm. 3334, EPA West, 1301 Constitution Ave., NW., Washington, DC. The EPA Docket Center is open from 8:30 a.m. to 4:30 p.m., Monday through Friday, excluding legal holidays. The EPA Docket Center Reading Room telephone number is (202) 566-1744, and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Does this Correction Do?

FR Doc. 06-6908 published in the Federal Register of August 15, 2006 (71 FR 46900) (FRL-8087-8) is corrected.

On page 46901, column 1, second full paragraph, sentence two is corrected to read as follows: “All access to TCSA CBI under this contract will take place at EPA Headquaters and Research Triangle Park, NC facilities; the CSC facility at Research Triangle Park, NC; and also remote electronic access using secure means.”

List of Subjects

Environmental protection, Confidential business information.

Dated: January 3, 2007.
Brion Cook
Director, Information Management Division, Office of Pollution Prevention and Toxics.

[FR Doc. E7-176 Filed 1-9-07; 8:45 am]

BILLING CODE 6560-50-S